ENVIRONMENTAL PROTECTION AGENCY

40 CFR Part 60

[EPA-HQ-OAR-2002-0071; FRL-8490-9]

RIN 2060-A009

Update of Continuous Instrumental Test Methods: Technical Amendments

AGENCY: Environmental Protection Agency (EPA).

ACTION: Withdrawal of direct final rule.

SUMMARY: EPA published a direct final rule on September 7, 2007, to correct errors in a May 15, 2006, final rule amending five instrumental test methods. We received adverse comment during the comment period on the September 2007 direct final rule and are now withdrawing that direct final rule.

DATES: Effective November 5, 2007, EPA withdraws the direct final rule published at 72 FR 51365, September 7, 2007.

FOR FURTHER INFORMATION CONTACT: Foston Curtis, Air Quality Assessment Division, Office of Air Quality Planning and Standards (E143-02), Environmental Protection Agency, Research Triangle Park, North Carolina 27711; telephone number (919) 541-1063; fax number (919) 541-0516; e-mail address: curtis.foston@epa.gov.

SUPPLEMENTARY INFORMATION: Because EPA received adverse comment, we are withdrawing the direct final rule entitled “Update of Continuous Instrumental Test Methods: Technical Amendments” published on September 7, 2007 (72 FR 51365). This direct final rule made corrections to a May 15, 2006 final rule (71 FR 28082) which amended five instrumental test methods. The direct final was to correct errors and clarify portions of the amendments that may have been ambiguous. We stated in the September 2007 direct final rule that if we received any adverse comments by October 9, 2007, the direct final would not take effect and we would publish a timely withdrawal in the Federal Register. We subsequently received adverse comments on that direct final rule.

We will address those comments in any subsequent final action based on the parallel proposed rule also published on September 7, 2007 (72 FR 51392). As stated in the direct final rule and the parallel proposed rule, we will not institute a second comment period on this action.

Dated: October 30, 2007.
Stephen L. Johnson,
Administrator.

Accordingly, the amendments to the rule published on September 7, 2007 (72 FR 51365), are withdrawn as of November 5, 2007.

[FR Doc. E7-21721 Filed 11-2-07; 8:45 am]

BILLING CODE 6560-50-P